DEPARTMENT OF THE INTERIOR

Bureau of Land Management

[19X LLWO230 L11100000.PN0000 LXSGPL000000]

Notice of Availability of Record of Decision and Approved Resource Management Plan Amendment for Greater Sage-Grouse Conservation, Idaho

AGENCY: Bureau of Land Management, Interior.

ACTION: Notice of availability.

SUMMARY: The Bureau of Land Management (BLM) announces the availability of the Record of Decision (ROD) for the Approved Resource Management Plan (RMP) Amendment for Greater Sage-Grouse Conservation for the Idaho Greater Sage-Grouse Sub-Region. The State Director signed the ROD on March 15, 2019, which constitutes the final decision of the BLM and makes the Approved ROD effective immediately.

ADDRESSES: The ROD is available on the BLM ePlanning project website at https://go.usa.gov/xPc3a. Click the Documents and Reports link on the left side of the screen to find the electronic version of these materials. Hard copies of the ROD are also available for public inspection at the Boise, Idaho Falls, and Twin Falls District Offices.

FOR FURTHER INFORMATION CONTACT: Jonathan Beck, Greater Sage-Grouse Implementation Coordinator, telephone, (208) 373-3841; address, 1387 South Vinnell Way, Boise Idaho 83709; email, jmbeck@blm.gov. Persons who use a telecommunications device for the deaf (TDD) may call the Federal Relay Service (FRS) at (800) 877-8339 to contact Mr. Beck. The FRS is available 24 hours a day, 7 days a week, to leave a message or question with Mr. Beck. You will receive a reply during normal business hours.

SUPPLEMENTARY INFORMATION: The BLM developed the Idaho Greater Sage-Grouse Approved RMP Amendment to enhance cooperation with States by improving alignment with State management plans and strategies for Greater Sage-Grouse, while continuing to conserve, enhance, and restore Greater Sage-Grouse and its habitat. The Approved RMP Amendment also addresses a legal vulnerability, which was exposed when a Federal District Court in Nevada determined that the BLM had violated the National Environmental Policy Act (NEPA) when it finalized the 2015 plans.

The BLM developed the Approved RMP Amendment in collaboration with Idaho Governor Butch Otter, state wildlife managers, and other concerned organizations and individuals, largely through the Governor's stakeholder group comprised of members from the Idaho Sage-Grouse Task Force. Using its discretion and authority under the Federal Land Policy and Management Act (FLPMA), the BLM amends land use plans that address Greater Sage-Grouse management to improve alignment with State of Idaho plans and management strategies, in accordance with the BLM's multiple use and sustained yield mission. This Approved RMP Amendment is one of six separate plan amendments developed and issued in response to the Secretary's Order (SO) 3353 (Greater Sage-grouse Conservation and Cooperation with Western States) and in accordance with SO 3349 (American Energy Independence). The amendments refine the previous management plan adopted in 2015 and aim to strike a regulatory balance and build greater trust among neighboring interests in Western communities.

The Idaho Greater-Sage Grouse Approved RMP Amendment specifically addresses the designation of sagebrush focal areas, mitigation standards, lek buffers, disturbance and density caps, and adjustments to habitat boundaries to reflect new information. The Approved RMP Amendment amends the following RMPs for BLM-administered lands in Idaho:

• Bennett Hills/Timmerman Hills Management Framework Plan (MFP) (BLM 1980)

• Big Desert MFP (BLM 1981)

• Big Lost MFP (BLM 1983)

• Bruneau MFP (BLM 1983)

• Cascade RMP (BLM 1988)

• Cassia RMP (BLM 1985)

• Challis RMP (BLM 1999)

• Craters of the Moon National Monument RMP (BLM 2006)

• Jarbidge RMP (BLM 1988)

• Jarbidge RMP (Revised) (BLM 2015)

• Kuna MFP (BLM 1983)

• Lemhi RMP (BLM 1987)

• Little Lost-Birch Creek MFP (BLM 1981)

• Magic MFP (BLM 1975)

• Medicine Lodge MFP (BLM 1981)

• Monument RMP (BLM 1985)

• Owyhee RMP (BLM 1999)

• Pocatello RMP (BLM 2012)

• Snake River Birds of Prey National Conservation Area RMP (BLM 2008)

• Sun Valley MFP (BLM 1981)

• Twin Falls MFP (BLM 1982)

The planning area includes approximately 39.5 million acres of BLM, National Park Service, U.S. Forest Service, U.S. Bureau of Reclamation, State, local, and private lands in 28 counties: Ada, Adams, Bear Lake, Bingham, Blaine, Bonneville, Butte, Camas, Caribou, Cassia, Clark, Custer, Elmore, Fremont, Gem, Gooding, Jefferson, Jerome, Lemhi, Lincoln, Madison, Minidoka, Oneida, Owyhee, Payette, Power, Twin Falls, and Washington. Within the planning area, the BLM administers 11,470,301 acres of public land, providing 8,809,326 acres of Greater Sage-Grouse habitat. Surface management decisions made in the Approved RMP Amendment apply only to lands administered by the BLM in the decision area.

The BLM prepared an EIS in accordance with the NEPA to analyze the direct, indirect, and cumulative environmental impacts associated with the proposed action and the alternatives. The ROD approves the Agency Preferred Alternative identified in the Final EIS as updated by the Governor's consistency review and accepted by the Idaho State Director. The BLM issued the ROD based on compliance with relevant laws, regulations, policies, and plans, including those guiding agency decisions that may have an impact on resources and their values, services, and functions.

On December 10, 2018, the NOA for the Idaho Greater Sage-Grouse Proposed RMP Amendment/Final EIS (83 FR 63531) was published in the Federal Register. The publication of the NOA initiated a 30-day protest period for the proposed land-use-planning decision. The protest period was later extended an additional seven days to help account for technical issues the public encountered when submitting protests during the partial Federal government shutdown in January 2019. NOA publication also initiated a simultaneous 60-day review by the Governor of Idaho to identify and inconsistencies with State or local plans, policies, or programs. At the close of the protest period, 8 protests had been received. These protests were resolved by the BLM Director; individual protest response letters were sent to all protesting parties. Protest resolution is contained in the Director's Protest Summary Report, which is available online at https://www.blm.gov/programs/planning-and-nepa/public-participation/protest-resolution-reports. The proposed RMP Amendment was modified as a result of the protest resolution. The Idaho Governor's review identified several factual corrections/editorial changes that were accepted by BLM. The Governor also identified inconsistencies related to livestock grazing, buffers, required design features, and fire management.

The BLM clarified Management Direction MD LG 17 in the Approved RMP Amendment to the following: “Allotments within PHMA with declining sage-grouse populations, defined by a soft or hard adaptive management trigger being engaged and/or with land health concerns will be prioritized for field checks.” BLM removed redundant 2015 plan exception criteria from Appendix B. The intention was to remove the 2015 exception criteria when adding the stakeholder group's exception criteria between Draft EIS and Final EIS, but the deletion was overlooked when completing the Final EIS. BLM moved the noise buffer section located in the 2018 Final EIS to Required Design Features (RDF) as it was in the 2015 Approved RMP Amendment. BLM will include the words “as appropriate” to the anti-perch device RDF to allow the use of current and/or best science when making perch deterrent decisions.

Authority: 40 CFR 1506.6.

Peter J. Ditton,
Acting BLM Idaho State Director.

[FR Doc. 2019-05289 Filed 3-19-19; 8:45 am]

BILLING CODE 4310-84-P